NUCLEAR REGULATORY COMMISSION

[NRC-2010-0289]

Notice of Availability and Opportunity for Comment on Draft Division of Safety Systems Interim Staff Guidance DSS-ISG-2010-01: Staff Guidance Regarding the Nuclear Criticality Safety Analysis for Spent Fuel Pools

AGENCY: Nuclear Regulatory Commission.

ACTION: Solicitation of public comment.

SUMMARY: The U.S. Nuclear Regulatory Commission (NRC) requests public comment on a draft Division of Safety Systems Interim Staff Guidance, (DSS-ISG) DSS-ISG-2010-01, “Staff Guidance Regarding the Nuclear Criticality Safety Analysis for Spent Fuel Pools.” This draft DSS-ISG provides updated guidance to the NRC staff reviewer to address the increased complexity of recent spent fuel pool (SFP) license application analyses and operations. The guidance is intended to reiterate existing guidance, clarify ambiguity in existing guidance, and identify lessons learned based on recent submittals.

DATES: Comments may be submitted by October 1, 2010. Comments received after this date will be considered, if it is practical to do so, but only comments received on or before this date can be assured consideration.

ADDRESSES: You may submit comments by any one of the following methods. Please include Docket ID NRC-2010-0289 in the subject line of your comments. Comments submitted in writing or in electronic form will be posted on the NRC Web site and on the Federal rulemaking Web site http://www.regulations.gov. Your comments will not be edited to remove any identifying or contact information, therefore, you should not include any information in your comments that you do not want publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0289. Address questions about NRC dockets to Carol Gallagher 301-492-3668; e-mail Carol.Gallagher@nrc.gov.

Mail comments to: Cindy K. Bladey, Chief, Rules, Announcements and Directives Branch, Office of Administration, Mail Stop: TWB-05-B01M, U.S. Nuclear Regulatory Commission, Washington, DC 20555-0001, or by fax to RADB at (301) 492-3667.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Staff Guidance Regarding the Nuclear Criticality Safety Analysis Accompanying Spent Fuel Pool License Amendment Requests, DSS-ISG-2010-01, is available electronically under ADAMS Accession Number ML102220567.

Federal Rulemaking Web site: Public comments and supporting materials related to this notice can be found at http://www.regulations.gov by searching on Docket ID: NRC-2010-0289.

FOR FURTHER INFORMATION CONTACT: Kent A. L. Wood, Reactor Systems Engineer, Reactor Systems Branch, Division of Safety Systems, Office of Nuclear Reactor Regulation, U.S. Nuclear Regulatory Commission, Rockville, Maryland 20852. Telephone: (301) 415-4120; fax number: (301) 415-3577; e-mail: Kent.Wood@nrc.gov.

SUPPLEMENTARY INFORMATION: The NRC is issuing this notice to solicit public comments on the draft DSS-ISG-2010-01, “Staff Guidance Regarding the Nuclear Criticality Safety Analysis Accompanying Spent Fuel Pool License Amendment Requests.” After the NRC staff considers any public comments received, it will make a determination regarding issuance of the proposed DSS-ISG.

Dated at Rockville, Maryland, this 25th day of August 2010.
For the Nuclear Regulatory Commission.
William H. Ruland,
Director, Division of Safety Systems, Office of Nuclear Reactor Regulation.

[FR Doc. 2010-21825 Filed 8-31-10; 8:45 am]

BILLING CODE 7590-01-P